DEPARTMENT OF VETERANS AFFAIRS

Advisory Committee on Prosthetics and Special-Disabilities Programs; Notice of Meeting

The Department of Veterans Affairs (VA) gives notice under Public Law 92-463 that a meeting of the Advisory Committee on Prosthetics and Special-Disabilities Programs (Committee) will be held Monday and Tuesday, May 8-9, 2000, at VA Headquarters, Room 930, 810 Vermont Avenue, NW, Washington, D.C. The May 8 session will convene at 8:00 a.m. and adjourn at 4 p.m. and the May 9 session will convene at 8:00 a.m. and adjourn at 12:00 noon. The purpose of the Committee is to advise the Department on its prosthetic programs designed to provide state-of-the-art prosthetics and the associated rehabilitation research, development, and evaluation of such technology. The Committee also advises the Department on special disability programs which are defined as any program administered by the Secretary to serve veterans with spinal cord injury, blindness or vision impairment, loss of or loss of use of extremities, deafness or hearing impairment, or other serious incapacities in terms of daily life functions.

On the morning of May 8, the Committee will receive briefings by the National Program Directors of the Special-Disabilities Programs regarding the status of their activities over the last seven months. In the afternoon, a GAO representative will give a briefing on the GAO Draft Report regarding VA Health Care: Better Data and Accountability Needed For Care for Disabled Veterans. On the morning of May 9, the Committee will review the final draft report on implementation of the Veterans' Health Care Eligibility Reform Act of 1996 as it pertains to the legislative requirement to maintain capacity to meet specialized needs of disabled veterans. The Committee will have the opportunity to ask questions and provide input to the final draft report.

The meeting is open to the public. For those wishing to attend, contact Kathy Pessagno, Veterans Health Administration (113), phone (202) 273-8512, Department of Veterans Affairs, 810 Vermont Avenue, NW, Washington, D.C. 20420, prior to May 5, 2000.

Dated: April 5, 2000.
Marvin Eason,
Committee Management Officer.

[FR Doc. 00-9858 Filed 4-19-00; 8:45 am]

BILLING CODE 8320-01-M